DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 8W-25A, Rockville, Maryland 20857; (301) 443-6593, or visit our website at: http://www.hrsa.gov/vaccinecompensation/index.html.

SUPPLEMENTARY INFORMATION: The Program provides a system of no-fault compensation for certain individuals who have been injured by specified childhood vaccines. Subtitle 2 of title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on November 1, 2024, through November 30, 2024. This list provides the name of the petitioner, city, and state of vaccination (if unknown then the city and state of the person or attorney filing the claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with section 2112(b)(2), all interested persons may submit written information relevant to the issues described above in the case of the petitions listed below. Any person choosing to do so should file an original and three (3) copies of the information with the Clerk of the United States Court of Federal Claims at the address listed above (under the heading For Further Information Contact), with a copy to HRSA addressed to Director, Division of Injury Compensation Programs, Health Systems Bureau, 5600 Fishers Lane, 8W-25A, Rockville, Maryland 20857. The Court's caption (Petitioner's Name v. Secretary of HHS) and the docket number assigned to the petition should be used as the caption for the written submission. Chapter 35 of Title 44, United States Code, related to paperwork reduction, does not apply to information required for purposes of carrying out the Program.

Diana Espinosa,
Principal Deputy Administrator.

List of Petitions Filed

1. Joann Chamberlain, Woodstock, New York, Court of Federal Claims No: 24-1794V

2. Daniel Weihert, Terre Haute, Indiana, Court of Federal Claims No: 24-1795V

3. Philip Dahl, Shreveport, Louisiana, Court of Federal Claims No: 24-1796V

4. Lauren Belanger, Portland, Maine, Court of Federal Claims No: 24-1797V

5. Jesus Rodriguez, Edinburg, Texas, Court of Federal Claims No: 24-1799V

6. Amber Berry, LaFayette, Georgia, Court of Federal Claims No: 24-1800V

7. Chava Stark, Troy, New York, Court of Federal Claims No: 24-1804V

8. Darren Haimer, Lakewood Ranch, Florida, Court of Federal Claims No: 24-1805V

9. Robert Friend, Woodbury, New Jersey, Court of Federal Claims No: 24-1807V

10. Tamma Adkins, Lancaster, Kentucky, Court of Federal Claims No: 24-1808V

11. Peter Deveau, Waterford, Connecticut, Court of Federal Claims No: 24-1809V

12. Steven T. Maupin, Cuyahoga Falls, Ohio, Court of Federal Claims No: 24-1813V

13. Vickie L. Carpenter, Gaylord, Michigan, Court of Federal Claims No: 24-1814V

14. David Novak, Libertyville, Illinois, Court of Federal Claims No: 24-1815V

15. Emma Montgomery, Brooklyn, New York, Court of Federal Claims No: 24-1817V

16. Vickie Perry, Milton, Vermont, Court of Federal Claims No: 24-1819V

17. Rebecca Tyser, Palm Harbor, Florida, Court of Federal Claims No: 24-1823V

18. Davie Ward, Bakersfield, California, Court of Federal Claims No: 24-1825V

19. Jennifer Alves, San Jose, California, Court of Federal Claims No: 24-1826V

20. Lesia Powe on behalf of Timothy Powe, Deceased, West Point, Mississippi, Court of Federal Claims No: 24-1827V

21. Kristin Morris, Thornton, Colorado, Court of Federal Claims No: 24-1829V

22. Ricki Dayner, Aurora, Colorado, Court of Federal Claims No: 24-1830V

23. Carl Nielson, Charleston, South Carolina, Court of Federal Claims No: 24-1839V

24. Ramona Santana, New York, New York, Court of Federal Claims No: 24-1841V

25. Loretta Dawley, Longview, Washington, Court of Federal Claims No: 24-1842V

26. Luzita Powell, New Berlin, Wisconsin, Court of Federal Claims No: 24-1843V

27. Carmen K. Foster, Richmond, Kentucky, Court of Federal Claims No: 24-1844V

28. Rachael Denholm, Columbus, Ohio, Court of Federal Claims No: 24-1845V

29. David Shmoel, Brooklyn, New York, Court of Federal Claims No: 24-1848V

30. Sharon Knight, Eugene, Oregon, Court of Federal Claims No: 24-1850V

31. Samuel Heron, III, Woodridge, Illinois, Court of Federal Claims No: 24-1851V

32. Franice Deleon, New Braunfels, Texas, Court of Federal Claims No: 24-1852V

33. Anna Maryanski, Jeanette, Pennsylvania, Court of Federal Claims No: 24-1853V

34. Danah Moore, Poughkeepsie, New York, Court of Federal Claims No: 24-1854V

35. Joy Terrell, Philadelphia, Pennsylvania, Court of Federal Claims No: 24-1855V

36. Cory Mandrel Welch, Fox Lake, Wisconsin, Court of Federal Claims No: 24-1856V

37. Beth D. Bajus, Grandview, Ohio, Court of Federal Claims No: 24-1857V

38. Janice Weil, Lake George, Colorado, Court of Federal Claims No: 24-1858V

39. Miriam Zamago, Mission Hills, California, Court of Federal Claims No: 24-1860V

40. Janelle Marrero on behalf of S. M., Brandon, Florida, Court of Federal Claims No: 24-1861V

41. Michael T. Smith, Fulton, New York, Court of Federal Claims No: 24-1864V

42. Earlene Hall, Commerce City, Colorado, Court of Federal Claims No: 24-1865V

43. Jeffrey Upin, Boston, Massachusetts, Court of Federal Claims No: 24-1867V

44. Karyna Franke, Yakima, Washington, Court of Federal Claims No: 24-1870V

45. Michele Greenstein, Nottingham, Maryland, Court of Federal Claims No: 24-1871V

46. Geralyn Sale, Branford, Connecticut, Court of Federal Claims No: 24-1872V

47. Betty Wagner, Roseburg, Oregon, Court of Federal Claims No: 24-1874V

48. Abby Kirsch, Sun Valley, Idaho, Court of Federal Claims No: 24-1876V

49. Casey Hogan, Cambridge, Massachusetts, Court of Federal Claims No: 24-1877V

50. Bonnie Gabel, Amarillo, Texas, Court of Federal Claims No: 24-1878V

51. Fei Cai, Los Angeles, California, Court of Federal Claims No: 24-1881V

52. Roderick Robinson on behalf of I. R., Bogalusa, Louisiana, Court of Federal Claims No: 24-1884V

53. Maribell Seiglie, Cresskill, New Jersey, Court of Federal Claims No: 24-1885V

54. Rebecca Heineman on behalf of Jennell Jaquays, Deceased, Dallas, Texas, Court of Federal Claims No: 24-1886V

55. Andrew Lavecchio, Pinellas Park, Florida, Court of Federal Claims No: 24-1887V

56. Mark Streech, Stevensville, Montana, Court of Federal Claims No: 24-1888V

57. Brooke Gorzelanczyk, Lake in the Hills, Illinois, Court of Federal Claims No: 24-1889V

58. Joanne Sarazin, Lakewood, Colorado, Court of Federal Claims No: 24-1890V

59. Stephanie Brandmeyer, Irvine, California, Court of Federal Claims No: 24-1891V

60. Anthony Barnes, Oshkosh, Wisconsin, Court of Federal Claims No: 24-1892V

61. Leonard Casoria, Boston, Massachusetts, Court of Federal Claims No: 24-1894V

62. David Franklin Peeples, Knoxville, Tennessee, Court of Federal Claims No: 24-1895V

63. Matt Pello, Wyndmoor, Pennsylvania, Court of Federal Claims No: 24-1896V

64. Maria DeGraaf, Vista, California, Court of Federal Claims No: 24-1898V

65. Bruce A. Ling, Tallahassee, Florida, Court of Federal Claims No: 24-1899V

66. Nelson Balanga, Ventura, California, Court of Federal Claims No: 24-1900V

67. Amit Patil, Naperville, Illinois, Court of Federal Claims No: 24-1901V

68. Jessica Gutierrez, Brownsville, Texas, Court of Federal Claims No: 24-1902V

69. Joan Freeman, Anderson, South Carolina, Court of Federal Claims No: 24-1903V

70. Pamela Bohle, Bloomingdale, Illinois, Court of Federal Claims No: 24-1904V

71. Mark Saunders, Watertown, Massachusetts, Court of Federal Claims No: 24-1907V

72. Crystal Boone, Seattle, Washington, Court of Federal Claims No: 24-1908V

73. Geralyn Santiago, Medford, New York, Court of Federal Claims No: 24-1910V

74. Jordan Preston, Columbus, Ohio, Court of Federal Claims No: 24-1911V

75. Lewis Bartell, Fairfax, Virginia, Court of Federal Claims No: 24-1912V

76. Jane-Alexandra Krehbiel on behalf of Matthew Krehbiel, Deceased, Louisa, Virginia, Court of Federal Claims No: 24-1917V

77. Gabriella Ramsby, Los Angeles, California, Court of Federal Claims No: 24-1918V

78. Patrice Sneed, Houston, Texas, Court of Federal Claims No: 24-1919V

79. Porchia Allen, Alton, Illinois, Court of Federal Claims No: 24-1921V

80. Eun Sup Kim, Marietta, Georgia, Court of Federal Claims No: 24-1922V

81. Yeji Kim, New York, New York, Court of Federal Claims No: 24-1928V

82. Nikki Kight, Crawfordville, Florida, Court of Federal Claims No: 24-1930V

83. Kathleen Bondi, Downers Grove, Illinois, Court of Federal Claims No: 24-1935V

84. Pamela Bedwell, Boston, Massachusetts, Court of Federal Claims No: 24-1938V

85. Michael Koffski, Algonquin, Illinois, Court of Federal Claims No: 24-1941V

86. Mary Jo Tracy, Bonita Springs, Florida, Court of Federal Claims No: 24-1942V

87. Lynette Ward, Rochester, New York, Court of Federal Claims No: 24-1946V

88. Christine Matthews, Chicago, Illinois, Court of Federal Claims No: 24-1947V

89. Bethania Bacigalupe, Waltham, Massachusetts, Court of Federal Claims No: 24-1948V

90. Bradley Hayes, Mt. Sterling, Illinois, Court of Federal Claims No: 24-1949V

91. Kimberly Jewel DeLuna, Colorado Springs, Colorado, Court of Federal Claims No: 24-1950V

92. Bruce Larson, Fargo, North Dakota, Court of Federal Claims No: 24-1951V

93. Jasmine Monroe, Thomasville, Georgia, Court of Federal Claims No: 24-1952V

94. Charles Gregg, Elkton, Maryland, Court of Federal Claims No: 24-1957V

95. Angela Schuh, Duryea, Pennsylvania, Court of Federal Claims No: 24-1959V

96. Dominic Yannuzzi, Hazleton, Pennsylvania, Court of Federal Claims No: 24-1960V

97. Denise Dicato, Boston, Massachusetts, Court of Federal Claims No: 24-1962V

98. Adrien Lozada, Sparta, Illinois, Court of Federal Claims No: 24-1963V

99. John Zell, Jr., Charlotte, North Carolina, Court of Federal Claims No: 24-1964V

[FR Doc. 2024-31614 Filed 1-3-25; 8:45 am]

BILLING CODE 4165-15-P